DEPARTMENT OF THE INTERIOR

Office of the Secretary

[Docket No. ONRR-2012-0003]

U.S. Extractive Industries Transparency Initiative Tribal Consultation

AGENCY: Office of the Secretary, Interior.

ACTION: Notice.

SUMMARY: The Department of the Interior (Interior) announces a tribal consultation meeting regarding the United States Extractive Industries Transparency Initiative, to be held at the National Congress of American Indians mid-year Conference June 17-20, 2012, in Lincoln, Nebraska. In addition to this meeting, Interior officials welcome the opportunity to speak and meet in person with interested tribes in the months of June and July regarding this initiative. Interior also invites tribes to participate in upcoming USEITI public listening sessions and workshops in May and June.

DATES: Submit comments on the stakeholder assessment by June 29, 2012. We will hold listening sessions and workshops on the following dates:

• Anchorage, Alaska Public Listening Session, 6 p.m.-8 p.m. ADT, May 30, 2012

• Public Webinar, 1 p.m.-3 p.m. EDT, June 1, 2012

• Pittsburgh, Pennsylvania Public Listening Session, 1 p.m.-3 p.m. EDT, June 11, 2012

• New Orleans, Louisiana Public Listening Session, 1 p.m.-3 p.m. CDT, June 12, 2012

• Washington, DC Public Workshop, 10 a.m.-4 p.m. EDT, June 22, 2012

ADDRESSES: Submit comments to: Saman Hussain at telephone number 202.254.5508, or by email at saman_hussain@ios.doi.gov.

FOR FURTHER INFORMATION CONTACT: Saman Hussain at telephone number 202.254.5508, or by email at saman_hussain@ios.doi.gov.

SUPPLEMENTARY INFORMATION: In 2011, President Obama announced the United States' commitment to the global Extractive Industries Transparency Initiative (EITI). Given the significant role that the Department of the Interior plays in collecting revenue for resource extraction on federal lands, the President named Secretary Ken Salazar as the senior U.S. official responsible for implementing of the United States Extractive Industries Transparency Initiative (USEITI). Currently, the Federal Government collects revenues on behalf of some tribes and individual allottees (amounting to $538 million in the Federal Fiscal Year (ending on September 30, 2011) and then distributes the revenues through others.

In February, we sent a Dear Tribal Leader letter, inviting tribes to provide initial comment on USEITI and formation of the Multi-Stakeholder Group responsible for overseeing its implementation. Later that month, we also published a notice in the Federal Register seeking public comment on formation of a multi-stakeholder group to implement USEITI (74 FR 11151). In that notice, we stated that we would hold a series of public listening sessions to provide additional opportunities for public comment. In March, we held listening sessions in St. Louis, Missouri; Denver, Colorado; Houston, Texas; and Washington, DC. The Consensus Building Institute (CBI), an independent third-party facilitator, analyzed the input from these four public listening sessions, interviews with potential stakeholders, and written comments that we received. This input has formed the basis of CBI's independent stakeholder assessment and findings regarding options for establishing the U.S. Multi-Stakeholder Group, which will be responsible for implementing USEITI.

The CBI stakeholder assessment is available online at www.doi.gov/EITI. Alternatively, you may request a copy of the assessment from Saman Hussain whose contact information is listed above in this Notice. We encourage tribes to participate in the public comment period through June 29, 2012, to provide feedback on the stakeholder assessment and recommended options for establishing the U.S. Multi-Stakeholder Group. During the public comment period, five public listening sessions, a public webinar, a public workshop, and a tribal consultation session will be held. Details on participating in the webinar will be available from Saman Hussain and online at www.doi.gov/EITI.

For further information on EITI, please visit the USEITI Web page at http://www.doi.gov/EITI.

Dated: May 21, 2012.
Amy Holley,
Acting Assistant Secretary, Policy, Management and Budget.

[FR Doc. 2012-12827 Filed 5-24-12; 8:45 am]

BILLING CODE 4310-T2-P